DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 5442-5444, dated February 2, 2016) is amended to reflect the reorganization of the Division of Health Care Statistics, National Center for Health Statistics, Centers for Disease Control and Prevention.

Section C-B, Organization and Functions, is hereby amended as follows:

Insert item (2) develops a mathematical and survey statistical program for weighting, estimation, variance analysis, and inference that will be used to obtain, evaluate, analyze, and disseminate health care statistics data; of the functional statement for the Technical Services Branch (CPCDE) within the Division of Health Care Statistics, and renumber remaining items accordingly.

Sherri A. Berger,
Chief Operating Officer, Centers for Disease Control and Prevention.

[FR Doc. 2016-09183 Filed 4-20-16; 8:45 am]

BILLING CODE 4160-18-P